DEPARTMENT OF ENERGY

Federal Energy Regulatory Commission

[Docket No. IC21-9-000]

Commission Information Collection Activities (Ferc-725u); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on a renewal of currently approved information collection, FERC-725U (Mandatory Reliability Standards: Reliability Standard CIP-014-2), which will be submitted to the Office of Management and Budget (OMB) for review.

DATES: Comments on the collection of information are due March 26, 2021.

ADDRESSES: Send written comments on the information collections to OMB through www.reginfo.gov/public/do/PRAMain. Attention: Federal Energy Regulatory Commission Desk Officer. Please identify the OMB Control Number (1902-0274) in the subject line of your comments. Comments should be sent within 30 days of publication of this notice to www.reginfo.gov/public/do/PRAMain.

Please submit copies of your comments to the Commission. You may submit copies of your comments (identified by Docket No. IC21-9-000) by one of the following methods:

• eFiling at Commission's Website: http://www.ferc.gov.

• U.S. Postal Service Mail: Persons unable to file electronically may mail similar pleadings to the Federal Energy Regulatory Commission, 888 First Street NE, Washington, DC 20426.

• Delivery of filings other than by eFiling or the U.S. Postal Service should be delivered to Federal Energy Regulatory Commission, Office of the Secretary, 12225 Wilkins Avenue, Rockville, Maryland 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725U (Mandatory Reliability Standards: Reliability Standard CIP-014-2).

OMB Control No.: 1902-0274.

Type of Request: Three-year approval of the FERC-725U information collection requirements, with no changes to the reporting or recordkeeping requirements.

Abstract: On August 8, 2005, the Electricity Modernization Act of 2005, which is Title XII of the Energy Policy Act of 2005 (EPAct 2005), was enacted into law. EPAct 2005 added a new section 215 to the Federal Power Act (FPA),¹ which requires a Commission-certified Electric Reliability Organization (ERO) to develop mandatory and enforceable Reliability Standards, subject to Commission review and approval. Once approved, the Reliability Standards may be enforced by the ERO, subject to Commission oversight, or by the Commission independently. Section 215 of the FPA requires a Commission-certified ERO to develop mandatory and enforceable Reliability Standards, subject to Commission review and approval. Once approved, the Reliability Standards may be enforced by the ERO subject to Commission oversight or by the Commission independently. In 2006, the Commission certified NERC (now called the North American Electric Reliability Corporation) as the ERO pursuant to section 215 of the FPA. Reliability Standard CIP-014-2 requires applicable transmission owners and transmission operators to identify and protect transmission stations and transmission substations, and their associated primary control centers that if rendered inoperable or damaged resulting from a physical attack could result in widespread instability, uncontrolled separation, or cascading within an Interconnection.

¹ 16 U.S.C. 824o.

In terms of information collection requirements, an applicable entity must create or maintain documentation showing compliance, when appropriate, with each requirement of the Reliability Standard. This Reliability Standard CIP-014-2 has six requirements. Transmission owners and transmission operators must keep data or evidence to show compliance with the standard for three years unless directed by its Compliance Enforcement Authority. If a responsible entity is found non-compliant, it must keep information related to the non-compliance until mitigation is complete and approved, or for three years, whichever is longer.

Type of Respondents: Intrastate natural gas and Hinshaw pipelines.

Estimate of Annual Burden ² and Cost ³: The Commission estimates the total Public Reporting Burden for the FERC-725U information collection as:

² Burden is defined as the total time, effort, or financial resources expended by persons to generate, maintain, retain, or disclose or provide information to or for a Federal agency. For further explanation of what is included in the information collection burden, refer to 5 CFR 1320.3.

³ Commission staff estimates that the industry's skill set and cost (for wages and benefits) for FERC-725U are approximately the same as the Commission's average cost. The FERC 2020 average salary plus benefits for one FERC full-time equivalent (FTE) is $172,329/year (or $83.00/hour).

FERC-725U
[Mandatory reliability standards: Reliability standard CIP-014]
| Number of respondents ⁴ | Annual number of responses per respondent | Total number of responses | Average burden hours & cost per response | Total annual burden hours & total annual cost | Average annual cost per respondent
| (1) | (2) | (1) * (2) = (3) | (4) | (3) * (4) = (5) | (5) ÷ (1)
Annual Reporting and Recordkeeping | 336 | 1 | 336 | 32.71 hrs.; $2,714.93 | 10,991 hrs.; $912,253 | $2,714,93
Total FERC-725U | 336 | 1 | 336 | 32.71 hrs.; $2,714.93 | 10,991 hrs.; $912,253 | $2,714.93

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The total number of transmission owners and operators equals 336, this represents the unique US entities taken from October 2, 2020 NERC Compliance registry information.

Dated: February 18, 2021.
Kimberly D. Bose,
Secretary.

[FR Doc. 2021-03802 Filed 2-23-21; 8:45 am]

BILLING CODE 6717-01-P